DEPARTMENT OF COMMERCE

National Oceanic and Atmospheric Administration

[RTID 0648-XC998]

Gulf of Mexico Fishery Management Council; Public Meeting

AGENCY: National Marine Fisheries Service (NMFS), National Oceanic and Atmospheric Administration (NOAA), Commerce.

ACTION: Notice of hybrid meeting open to the public offering both in-person and virtual options for participation.

SUMMARY: The Gulf of Mexico Fishery Management Council (Council) will hold a four-day meeting to consider actions affecting the Gulf of Mexico fisheries in the exclusive economic zone (EEZ).

DATES: The meeting will convene Monday, June 5 through Thursday, June 8, 2023. Times are: Monday, June 5, 2023, 8 a.m.-5:15 p.m.; Tuesday, June 6, 2023 and Wednesday, June 7, 2023, 8 a.m.-5 p.m.; and Thursday, June 8, 2023, 8 a.m.-4:30 p.m., CDT.

ADDRESSES:

Meeting address: The meeting will take place at The Battle House Renaissance Hotel, located at 26 N. Royal Street, Mobile, AL 36602-3802.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Monday, June 5, 2023; 8 a.m.-5:15 p.m., CDT

The meeting will begin with Law Enforcement Committee reviewing the Law Enforcement Technical Committee's (LETC) Meeting Summary from the March 2023 meeting. The Ecosystem Committee will review the Ecosystem Technical Committee's (ETC) Report and Scientific and Statistical Committee (SSC) Recommendations on a Gulf of Mexico Ecosystem Model (GoMEM) to support fisheries management.

The Data Collection Committee will receive an update on the Southeast For-Hire Integrated Reporting (SEFHIER) Program and next steps. The Shrimp Committee will discuss the next steps for the Congressional Funding Budget for Shrimp Vessel Position Data Reporting and Summary of the May 2023 Shrimp Advisory Panel Meeting.

Sustainable Fisheries Committee will receive an overview presentation on Rice's Whale Status and Recent Speed Limit Petition in the Gulf of Mexico; and, review Multi-year Annual Catch Limits. The Committee will review SSC Recommendations on Report from the Marine Recreational Information Program (MRIP) Transition Team on Red Snapper and other Species in the Gulf State Supplemental Surveys; Evaluation of Interim Analysis Process; and Management Strategy Evaluation Workshop.

The Council will convene in a CLOSED SESSION of the FULL COUNCIL to finalize selection of Coastal Migratory Pelagic (CMP) Advisory Panel (AP) members.

Tuesday, June 6, 2023; 8 a.m.-5 p.m., CDT

The Reef Fish Committee will discuss Individual Fishing Quota (IFQ) Program Objectives; review State Survey Private Angling Landings and Discards for Red Snapper; Final Action Item: Recalibration of Red Snapper Recreational Catch Limits and Modifications of Gray Snapper Catch Limits; Draft Framework Action: Modifications to Recreational and Commercial Greater Amberjack Management Measures, and review the SSC Summary Report from the May 2023 Meeting including Recommendations on the Black Grouper and Yellowfin Group Catch Limits and Mid-water Snapper Complex Catch Limits.

Wednesday, June 7, 2023; 8 a.m.-5 p.m., CDT

The Reef Fish Committee will reconvene to review Final Action Item: Draft Amendment 56: Modifications to the Gag Grouper Catch Limits, Sector Allocations, and Fishing Seasons, and Draft Snapper Grouper Amendment 44/Reef Fish Amendment 55: Catch Level Adjustments and Allocations for the Southeast U.S. Yellowtail Snapper.

At approximately 11:15 a.m., CDT, the Council will reconvene with a Call to Order, Announcements and Introductions, Adoption of Agenda and Approval of Minutes. The Council will present the 2022 Law Enforcement Officer of the Year Award; followed by presentations on Update on the Commission's Recently-Finished Red Drum Fishery Profile; Exempted Fishing Permit from Mote Marine Lab; NOAA Fisheries Request for Comments on Advance Notice of Proposed Rulemaking for National Standard Guidelines 4, 8, and 9; and, an update from the Bureau of Ocean Energy Management (BEOM) on Wind Energy Development in the Gulf of Mexico.

The Council will hold public comment testimony from 2 p.m. to 5 p.m., CDT on Final Action Items: Recalibration of Red Snapper Recreational Catch Limits and Modifications of Gray Snapper Catch Limits and Draft Amendment 56: Modifications to the Gag Grouper Catch Limits, Sector Allocations and Fishing Seasons; Comments on Rice's Whale Petition and Exempted Fishing Permits; and, open testimony on other fishery issues or concerns. Public comment may begin earlier than 2 p.m. CDT, but will not conclude before that time. Persons wishing to give public testimony in-person must register at the registration kiosk in the meeting room. Persons wishing to give public testimony virtually must sign up via the link on the Council website. Registration for virtual testimony is open at the start of the meeting, Monday, June 5th at 8 a.m., CDT and closes one hour before public testimony begins on Wednesday, June 7th at 1 p.m. CDT. Public testimony may end before the published agenda time if all registered in-person and virtual participants have completed their testimony.

Thursday, June 8, 2023; 8 a.m.-4:30 p.m., CDT

The Council will receive Committee reports from Law Enforcement, Ecosystem, Data Collection, Shrimp, Sustainable Fisheries, and Reef Fish Management Committees as well as the closed session report and recommendations on the exempted fishing permit. The Council will receive updates from the following supporting agencies: Alabama Law Enforcement Efforts; South Atlantic Fishery Management Council; NOAA Office of Law Enforcement (OLE); Gulf States Marine Fisheries Commission; U.S. Coast Guard; U.S. Fish and Wildlife Service; and Department of State.

The Council will discuss any Other Business items; and, receive Litigation update if any.

—Meeting Adjourns

The meeting will be a hybrid meeting; both in-person and virtual participation available. You may register for the webinar to listen-in only by visiting www.gulfcouncil.org and click on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meetings. Actions will be restricted to those issues specifically listed in this notice and any issues arising after publication of this notice that require emergency action under Section 305(c) of the Magnuson-Stevens Act, provided that the public has been notified of the Council's intent to take final action to address the emergency.

Special Accommodations

These meetings are physically accessible to people with disabilities. Requests for sign language interpretation or other auxiliary aid or accommodations should be directed to Kathy Pereira, (813) 348-1630, at least 15 days prior to the meeting date.

Authority: 16 U.S.C. 1801 et seq.

Dated: May 11, 2023.
Rey Israel Marquez,
Acting Deputy Director, Office of Sustainable Fisheries, National Marine Fisheries Service.

[FR Doc. 2023-10417 Filed 5-15-23; 8:45 am]

BILLING CODE 3510-22-P